DEPARTMENT OF TRANSPORTATION

Federal Aviation Administration

Notice of Intent To Rule on Application to Impose and Use the Revenue From a Passenger Facility Charge (PFC) at Barkley Regional Airport, Paducah, KY

AGENCY: Federal Aviation Administration (FAA), DOT.

ACTION: Notice of intent to rule on application.

SUMMARY: The FAA proposes to rule and invites public comment on the application to impose and use the revenue from a PFC at Barkley Regional Airport under the provisions of the Aviation Safety and Capacity Expansion Act of 1990 (Title IX of the Omnibus Budget Reconciliation Act of 1990) (Public Law 101-508) and part 158 of the Federal Aviation Regulations (14 CFR part 158).

DATES: Comments must be received on or before October 14, 2004.

ADDRESSES: Comments on this application may be mailed or delivered in triplicate to the FAA at the following address: Memphis Airports District Office, 2862 Business Park Dr., Bldg. G, Memphis, Tennessee 38118-1555.

In addition, one copy of any comments submitted to the FAA must be mailed or delivered to Mr. Richard Roof, Manager of the Barkley Regional Airport at the following address: P.O. Box 1131, Paducah, KY 42002.

Air carriers and foreign air carriers may submit copies of written comments previously provided to the Barkley Regional Airport under section 158.23 of part 158.

FOR FURTHER INFORMATION CONTACT: Michael Thompson, Program Manager, Memphis Airports District Office, 2862 Business Park, Bldg. G, Memphis, TN 38118, 901-322-8188. The application may be reviewed in person at this same location.

SUPPLEMENTARY INFORMATION: The FAA proposes to rule and invites public comment on the application to impose and use the revenue from a PFC at Barkley Regional Airport under the provisions of the Aviation Safety and Capacity Expansion Act of 1990 (Title IX of the Omnibus Budget Reconciliation Act of 1990) (Public Law 101-508) and part 158 of the Federal Aviation Regulations (14 CFR part 158).

On September 7, 2004, the FAA determined that the application to impose and use the revenue from a PFC submitted by Barkley Regional Airport was substantially complete within the requirements of section 158.25 of Part 158. The FAA will approve or disapprove the application, in whole or in part, no later than 120 days after receipt of application supplement.

The following is a brief overview of the application.

PFC Application No.: 04-02-C-00-PAH.

Level of the proposed PFC: $3.00.

Proposed charge effective date: January 1, 2005.

Proposed charge expiration date: March 1, 2014.

Total estimated net PFC revenue: $875,189.

Brief Description of Proposed Project(s)

5% AIP Local Share for:

Master Plan

Runway 14/32 Rehabilitation and Extension

Airfield Taxiway Rehabilitation and Construction

Airport Rescue Fire Fighting Equipment Improvements

Aircraft Apron Rehabilitation and Expansion

Security Fence Improvements

Airfield Lighting Improvements

Perimeter Road Construction

Airport Terminal Improvements

Fisher and Tower Road relocation

Security Vehicle Acquisition

Airfield Signage Improvements

Class or classes of air carriers which the public agency has requested not be required to collect PFCs: Part 135 On-demand.

Any person may inspect the application in person at the FAA office listed above under FOR FURTHER INFORMATION CONTACT.

In addition, any person may, upon request, inspect the application, notice and other documents germane to the application in person at the Barkley Regional Airport.

Issued in Memphis, TN, on September 7, 2004.
Charles L. Harris,
Assistant Manager, Memphis Airports District Office, Southern Region.

[FR Doc. 04-20623 Filed 9-13-04; 8:45 am]

BILLING CODE 4910-13-M